DEPARTMENT OF JUSTICE

Immigration and Naturalization Service

8 CFR Part 100

[INS No. 1949-98]

RIN 1115-AF18

Jurisdictional Change for the Los Angeles and San Francisco Asylum Offices

AGENCY: Immigration and Naturalization Service, Justice.

ACTION: Final rule.

SUMMARY: This final rule amends the Immigration and Naturalization Service (Service) regulations to transfer asylum office jurisdiction over the State of Hawaii and the Territory of Guam from the San Francisco Asylum Office to the Los Angeles Asylum office. The Los Angeles Asylum office will have jurisdiction over the states of Arizona, the southern portion of California, Hawaii, the southern portion of Nevada currently within the jurisdiction of the Las Vegas Suboffice, and the Territory of Guam. The intent of this regulation is to reallocate Service resources and improve processing efficiency for the Los Angeles and San Francisco Asylum Offices given the greater number of asylum officers stationed in Los Angeles.

DATES: This rule is effective July 24, 2000.

FOR FURTHER INFORMATION CONTACT: Christine Davidson, Supervisory Asylum Officer, or Marta Rothwarf, Asylum Officer, Office of International Affairs, Asylum Division, Immigration and Naturalization Service, 425 I Street, NW (ULLICO Building, Third Floor), Washington, DC 20536; Telephone (202) 305-2663.

SUPPLEMENTARY INFORMATION:

Did the Service Publish a Proposed Rule Transferring Jurisdiction Between the Los Angeles and San Francisco Asylum Offices?

A proposed rule discussing jurisdictional changes for the Los Angeles and San Francisco Asylum Offices was published in the Federal Register on December 8, 1999, at 64 FR 68638 with a 60-day public comment period. No public comments concerning the jurisdictional changes for the two asylum offices discussed in the proposed rule were received. Accordingly, this final rule, changing jurisdiction of the Los Angeles and San Francisco Asylum Offices, will become effective 30 days from the date of publication in the Federal Register.

Why is Jurisdiction Being Transferred to the Los Angeles Asylum Office?

The regulation at 8 CFR 100.4(f)(8) gives the San Francisco Asylum Office jurisdiction over asylum applications filed by individuals residing in the State of Hawaii and the Territory of Guam. Transferring jurisdiction over the State of Hawaii and the Territory of Guam to the Los Angeles Asylum Office under 8 CFR 100.4(f)(7) will enable the Service to better allocate its resources and improve processing efficiency based on the availability of asylum officers in the Los Angeles Asylum Office.

How Will This Change Affect Submission of Claims for Those Applicants Living in Hawaii and the Territory of Guam?

Currently, individuals residing in the State of Hawaii and the Territory of Guam must submit the Form I-589, Application for Asylum and Withholding of Removal, to the Nebraska Service Center. After the jurisdiction change becomes effective, individuals residing in the State of Hawaii and the Territory of Guam must submit the Form I-589 to the California Service Center. The Service will notify the public of this change in submission requirements through an attachment to the Form I-589 sent out by the Service's Forms Centers in addition to the publication of this rule in the Federal Register. The Service will continue to conduct asylum interviews in the State of Hawaii and the Territory of Guam; however, asylum offices from the Los Angeles Asylum Office will conduct the interviews rather than officers from the San Francisco Asylum Office.

What Will Happen to Those Applications Filed With the Nebraska Service Center After the Change in Jurisdiction Becomes Effective?

After the jurisdiction change becomes effective, the Nebraska Service Center will continue to accept asylum applications filed by applicants residing in the State of Hawaii and the Territory of Guam for 30 days after the effective date of this rule. Pending cases will be transferred to the Los Angeles Asylum Office for interview scheduling and interviews. Applications received 31 days after the effective date of this rule will be rejected due to the tight statutory and regulatory time constraints governing the adjudication of asylum applications. Rejected applications will contain a notice explaining that asylum applications must be resubmitted to the California Service Center. Rejected applications are not considered filed for work authorization purposes or for interview scheduling until they are properly resubmitted to the California Service Center. Members of the public are encouraged to save all correspondence with the Service, including any rejection letters received from the Service Centers. This correspondence may be submitted with asylum applications in the event that the 1-year filing deadline for asylum applications is at issue.

Regulatory Flexibility Act

The Commissioner of the Immigration and Naturalization Service, in accordance with the Regulatory Flexibility Act (5 U.S.C. 605(b)), has reviewed this regulation and, by approving it, certifies that this rule will not have a significant economic impact on a substantial number of small entities. The factual basis for this determination is that this rule is administrative in nature and merely transfers jurisdiction for processing asylum applications. This rule applies to individuals submitting applications and does not affect small entities as that term is defined in 5 U.S.C. 601(6).

Unfunded Mandates Reform Act of 1995

This rule will not result in the expenditure by State, local, and tribal governments in the aggregate, or by the private sector, of $100 million or more in any 1 year, and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

This rule is not considered by the Department of Justice, Immigration and Naturalization Service, to be a “significant regulatory action” under Executive Order 12866, section 3(f), Regulatory Planning and Review, and the Office of Management and Budget has waived its review process under section 6(a)(3)(A).

Executive Order 13132

This rule will not have substantial direct effects on the States, on the relationship between the National Government and the States, or on the distribution of power and responsibilities among the various levels of government. Therefore, in accordance with section 6 of Executive Order 13132, it is determined that this rule does not have sufficient federalism implications to warrant the preparation of a federalism summary impact statement.

Executive Order 12988 Civil Justice Reform

This rule meets the applicable standards set forth in sections 3(a) and 3(b)(2) of Executive Order 12988.

List of Subjects in 8 CFR Part 100

Organization and functions (Government agencies).

Accordingly, part 100 of chapter I of title 8 of the Code of Federal Regulations is amended as follows:

PART 100—STATEMENT OF ORGANIZATION

1. The authority citation for part 100 continues to read as follows:

Authority: 8 U.S.C. 1103; 8 CFR part 2.

2. In § 100.4, paragraphs (f)(7) and (f)(8) are revised to read as follows:

§ 100.4 Field offices.

* * * * *

(f) * * *

(7) Los Angeles, California. The Asylum Office in Los Angeles has jurisdiction over the States of Arizona, the southern portion of California as listed in § 100.4(b)(16) and § 100.4(b)(39), Hawaii, the southern portion of Nevada currently within the jurisdiction of the Las Vegas Suboffice, and the Territory of Guam.

(8) San Francisco, California. The Asylum Office in San Francisco has jurisdiction over the northern part of California as listed in § 100.4(b)(13), the portion of Nevada currently under the jurisdiction of the Reno Suboffice, and the States of Alaska, Oregon, and Washington.

* * * * *

Dated: June 6, 2000.
Doris Meissner,
Commissioner, Immigration and Naturalization Service.

[FR Doc. 00-15925 Filed 6-22-00; 8:45 am]

BILLING CODE 4910-10-M